ENVIRONMENTAL PROTECTION AGENCY

[9967-91-Region 3]

Notice of Administrative Settlement Agreement Pursuant to the Comprehensive Environmental Response, Compensation, and Liability Act

AGENCY: Environmental Protection Agency (EPA).

ACTION: Notice; request for public comment.

SUMMARY: In accordance with the Comprehensive Environmental Response, Compensation, and Liability Act (“CERCLA”), notice is hereby given that a proposed administrative settlement agreement for recovery of response costs (“Proposed Agreement”) associated with the New Jersey Fireworks Superfund Site, Elkton, Cecil County, Maryland was executed by the Environmental Protection Agency (“EPA”) and is now subject to public comment, after which EPA may modify or withdraw its consent if comments received disclose facts or considerations that indicate that the Proposed Agreement is inappropriate, improper, or inadequate. The Proposed Agreement would resolve potential EPA claims against the Estate of Louis Casale (“Settling Party”). The Proposed Agreement would require Settling Party to reimburse EPA $50,000 for response costs incurred by EPA for the Site.

For thirty (30) days following the date of publication of this notice, EPA will receive written comments relating to the Proposed Agreement. EPA's response to any comments received will be available for public inspection at the U.S. Environmental Protection Agency, Region III, 1650 Arch Street, Philadelphia, PA 19103.

DATES: Comments must be submitted on or before October 25, 2017.

ADDRESSES: The Proposed Agreement and additional background information relating to the Proposed Agreement are available for public inspection at the U.S. Environmental Protection Agency, Region III, 1650 Arch Street, Philadelphia, PA 19103. A copy of the Proposed Agreement may be obtained from Andrew S. Goldman (3RC41), Senior Assistant Regional Counsel, U.S. Environmental Protection Agency, 1650 Arch Street, Philadelphia, PA 19103. Comments should reference the “New Jersey Fireworks Superfund Site, Proposed Settlement Agreement” and “EPA CERCLA Docket No. CERC-03-2017-0138CR,” and should be forwarded to Andrew S. Goldman at the above address.

FOR FURTHER INFORMATION CONTACT: Andrew S. Goldman (3RC41), U.S. Environmental Protection Agency, 1650 Arch Street, Philadelphia, PA 19103, Phone: (215) 814-2487; Goldman.andrew@epa.gov.

Dated: August 31, 2017.
Karen Melvin,
Director, Hazardous Site Cleanup Division, U.S. Environmental Protection Agency, Region III.

[FR Doc. 2017-20313 Filed 9-22-17; 8:45 am]

BILLING CODE 6560-50-P